INTERNATIONAL TRADE COMMISSION

[Inv. No. 337-TA-544]

In the Matter of Certain Hand-Held Mobile Computer Devices, Components Thereof and Cradles Therefor; Notice of Decision Not To Review an Initial Determination Terminating the Investigation Based on Withdrawal of the Complaint

AGENCY: International Trade Commission.

ACTION: Notice.

SUMMARY: Notice is hereby given that the U.S. International Trade Commission has determined not to review an initial determination (“ID”) issued by the presiding administrative law judge (“ALJ”) on September 26, 2005, terminating the investigation based on withdrawal of the complaint.

FOR FURTHER INFORMATION CONTACT: Michael Liberman, Esq., Office of the General Counsel, U.S. International Trade Commission, 500 E Street, SW., Washington, DC 20436, telephone 202-205-3115. Copies of the public version of the IDs and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On August 3, 2005, the Commission instituted an investigation under section 337 of the Tariff Act of 1930, 19 U.S.C. 1337, based on a complaint filed by Intermec Technologies Corporation of Everett, Washington, alleging a violation of section 337 in the importation, sale for importation, and sale within the United States after importation of certain hand-held mobile computing devices, components thereof and cradles therefor by reason of infringement of claims 62, 66, 67, 71, 126, and 130-132 of U.S. Patent No. 5,410,141; claims 1-3 of U.S. Patent No. 5,468,947; and claims 17-25 and 27-31 of U.S. Patent No. 6,375,344. 70 FR 44693 (August 3, 2005). The complainant named Symbol Technologies, Inc. and Symbol de Mexico, Sociedad de R.I. de C.V. as respondents.

On September 9, 2005, the complainant and respondents jointly moved to terminate the investigation based on withdrawal of the complaint and suspend the procedural schedule. On September 21, 2005, the Commission investigative attorney filed a response in support of the joint motion.

On September 26, 2005, the ALJ issued an ID (Order No. 5) granting the joint motion to terminate. No party petitioned for review of the ALJ's ID.

The authority for the Commission's determination is contained in section 337 of the Tariff Act of 1930, as amended (19 U.S.C. 1337), and in section 210.42 of the Commission's Rules of Practice and Procedure (19 CFR 210.42).

Issued: October 12, 2005.
By order of the Commission.
Marilyn R. Abbott,
Secretary to the Commission.

[FR Doc. 05-20797 Filed 10-17-05; 8:45 am]

BILLING CODE 7020-02-P